DEPARTMENT OF THE INTERIOR

National Park Service

[NPS-WASO-NRSS-NPS0034298; PPWONRADE1 PPMRSNR1Y:NM0000 211P103601; OMB Control Number 1024-0254]

Agency Information Collection Activities; Comprehensive Survey of the American Public, Fourth Iteration

AGENCY: National Park Service, Interior.

ACTION: Notice of information collection; request for comment.

SUMMARY: In accordance with the Paperwork Reduction Act of 1995 we, the National Park Service (NPS) are proposing to reinstate a previously discontinued information collection.

DATES: Interested persons are invited to submit comments on or before January 9, 2023.

ADDRESSES: Send your comments on this information collection request (ICR) by mail to Phadrea Ponds, NPS Information Collection Clearance Officer, 12201 Sunrise Valley Drive (MS-242), Reston, Virginia 20192 (mail); or phadrea_ponds@nps.gov (email). Please reference Office of Management and Budget (OMB) Control Number 1024-0254 (CSAP4) in the subject line of your comments.

FOR FURTHER INFORMATION CONTACT: To request additional information about this ICR, contact Bret Meldrum, Social Science Program Manager at bret_meldrum@nps.gov (email) or Jeremy Sage at Jeremy@rrcassociates.com (email). Please reference OMB Control Number 1024-0254 (CSAP4) in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This information collection request seeks to reinstate a previously discontinued collection. The Comprehensive Survey of the American Public (CSAP) is the only national information collection by the NPS that describes visitors and non-visitors to units of the National Park System. Information on non-visitors, including their demographic characteristics and reasons for their non-visitation, is especially important in designing programs to reach underserved populations more effectively. The CSAP is administered every 5 years, a period determined to be long enough to identify important trends in key measures and to survey visitor and non-visitor perceptions, attitudes, behaviors, and knowledge related to the programs, services, and recreational opportunities offered by the NPS. Based on the strong mandate for socioeconomic monitoring expressed in the NPS strategic goals for science and the Department of the Interior priorities for 2018-2022, this information collection will provide the high-quality data required to enhance the development of programs and resources within the NPS. In addition to telephone surveys, the 2022 CSAP will use online data collecting methods as an option to mitigate expenses and address the diminishing return rate of telephone surveys in the previous iterations.

Title of Collection: 2022 Comprehensive Survey of the American Public.

OMB Control Number: 1024-0254.

Form Number: None.

Type of Review: Reinstate a previously approved information collection.

Respondents/Affected Public: Individuals or households.

Total Estimated Number of Annual Respondents: 3,500 (1,750 phone and 1,750 online).

Estimated Completion Time per Response: Varies by the response: 25 minutes (phone) and 15 minutes (online).

Total Estimated Number of Annual Burden Hours: 1,167.

Respondent's Obligation: Voluntary.

Frequency of Collection: Once.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2022-24482 Filed 11-9-22; 8:45 am]

BILLING CODE 4312-52-P